DEPARTMENT OF AGRICULTURE

Food Safety and Inspection Service

[Docket No. FSIS-2008-0020]

Codex Alimentarius Commission: Meeting of the Codex Committee on Food Hygiene

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on October 30, 2008. The objective of the public meeting is to provide information and receive public comments on agenda items and draft United States positions that will be discussed at the 40th Session of the Codex Committee on Food Hygiene (CCFH) of the Codex Alimentarius Commission (Codex), which will be held in Guatemala City, Guatemala, from December 1-5, 2008. The Under Secretary for Food Safety and the FDA, Center for Food Safety and Applied Nutrition (CFSAN), recognize the importance of providing interested parties the opportunity to obtain background information on the 40th Session of the CCFH and to address items on the agenda.

DATES: The public meeting is scheduled for Thursday, October 30, 2008, 2 p.m.-4 p.m.

ADDRESSES: The public meeting will be held in Rm. 1A001, Harvey W. Wiley Building, FDA, CFSAN, 5100 Paint Branch Parkway, College Park, MD 20740. Documents related to the 40th Session of the CCFH will be accessible via the World Wide Web at the following address: http://www.codexalimentarius.net/current.asp.

The U.S. Co-Alternate Delegates to the 40th Session of the CCFH, Dr. Rebecca Buckner of FDA and Dr. Kerry Dearfield of USDA, invite U.S. interested parties to submit their comments electronically to the following e-mail address: Rebecca.Buckner@fda.hhs.gov.

Registration

If you are interested in attending the public meeting, please pre-register (name and affiliation) with Ms. Tiffany Paulsin at Tiffany.Paulsin@fda.hhs.gov or 301-436-2380. Visitor parking is available, but you must indicate you will be driving when you pre-register.

For Further Information About the 40th Session of the CCFH Contact: Rebecca Buckner, Co-Alternate to the U.S. Delegate to the CCFH, FDA, CFSAN, Harvey W. Wiley Federal Building, 5100 Paint Branch Parkway, College Park, MD 20740-3835, Phone: (301) 436-1486, Fax: (301) 436-2632. E-mail: Rebecca.Buckner@fda.hhs.gov.

For Further Information About the Public Meeting Contact: Syed Amjad Ali, International Issues Analyst, U.S. Codex Office, Food Safety and Inspection Service (FSIS), Room 4861, South Agriculture Building, 1400 Independence Avenue, SW., Washington, DC 20250, Phone: (202) 205-7760, Fax: (202) 720-3157.

SUPPLEMENTARY INFORMATION:

Background

The Codex Alimentarius (Codex) was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The Codex Committee on Food Hygiene was established to elaborate codes, standards, and related texts for food hygiene. The Committee is hosted by the United States.

Issues To Be Discussed at the Public Meeting

The following items on the agenda for the 40th Session of the CCFH will be discussed during the public meeting:

• Matters Referred to the Committee on Food Hygiene from the Other Codex Bodies.

• Progress Report on the Joint FAO/WHO Expert meetings on Microbiological Risk Assessment (JEMRA) and Related Matters.

• Information from the World Organization for Animal Health (OIE).

• Microbiological Criteria for Powdered Follow-up Formula and Formulas for Special Medical Purposes for Young Children (Annex to the Code of Hygienic Practice for Powdered Formulae for Infants and Young Children).

• Proposed Draft Microbiological Criteria for Control of Listeria monocytogenes in Ready-to-Eat Foods.

• Proposed Draft Guidelines for the Control of Campylobacter and Salmonella spp. in Chicken Products.

• Proposed Draft Annex on Leafy Green Vegetables, including Leafy Herbs, to the Code of Hygienic Practice for Fresh Fruits & Vegetables.

• Proposed Draft Code of Hygienic Practice for Vibrio spp. in Seafood.

• Discussion of the New Work Proposals submitted to the Ad Hoc Working Group for Establishment of CCFH Work Priorities.

Each issue listed will be fully described in documents distributed, or to be distributed, by the Secretariat prior to the meeting. Members of the public may access or request copies of these documents (see ADDRESSES).

Public Meeting

At the October 30th public meeting, draft U.S. positions on the agenda items will be described and discussed, and attendees will have the opportunity to pose questions and offer comments. Written comments may be offered at the meeting or sent to the Co-Alternate to the U.S. Delegate for the 40th Session of the CCFH, Dr. Rebecca Buckner (see ADDRESSES). Written comments should state that they relate to activities of the 40th Session of CCFH.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and they have the option to password protect their accounts.

Done at Washington, DC on October 9, 2008.
Paulo Almeida,
Associate Manager for Codex Alimentarius.

[FR Doc. E8-24464 Filed 10-15-08; 8:45 am]

BILLING CODE 3410-DM-P